DEPARTMENT OF ENERGY

Federal Energy Regulatory Commission

Combined Notice of Filings

Take notice that the Commission has received the following Natural Gas Pipeline Rate and Refund Report filings:

Filings in Existing Proceedings

Docket Numbers: RP12-1066-001.

Applicants: Big Sandy Pipeline, LLC.

Description: Big Sandy Pipeline, LLC submits tariff filing per 154.203: RP12-1066 Compliance Filing to be effective 12/1/2012.

Filed Date: 12/10/12.

Accession Number: 20121210-5079.

Comments Due: 5 p.m. ET 12/24/12.

Docket Numbers: RP12-1067-001.

Applicants: Leaf River Energy Center LLC.

Description: Leaf River Energy Center LLC submits tariff filing per 154.203: Leaf River Energy Center LLC—Compliance with Order Accepting 587-V Filing to be effective 12/1/2012.

Filed Date: 12/10/12.

Accession Number: 20121210-5172.

Comments Due: 5 p.m. ET 12/24/12.

Docket Numbers: RP12-1079-001.

Applicants: Central New York Oil and Gas, L.L.C.

Description: Central New York Oil and Gas, L.L.C. submits tariff filing per 154.203: Central New York Oil and Gas Co.—Compliance with Order Accepting 587-V Filing to be effective 12/1/2012.

Filed Date: 12/10/12.

Accession Number: 20121210-5044.

Comments Due: 5 p.m. ET 12/24/12.

Docket Numbers: RP13-133-001.

Applicants: Rendezvous Pipeline Company, LLC.

Description: Rendezvous Pipeline Company, LLC submits tariff filing per 154.203: Supplement NAESB Compliance Filing to be effective 12/1/2012.

Filed Date: 12/10/12.

Accession Number: 20121210-5041.

Comments Due: 5 p.m. ET 12/24/12.

Docket Numbers: RP13-365-002.

Applicants: TC Offshore LLC.

Description: TC Offshore LLC submits tariff filing per 154.205(b): RP13-365-001 Amendment to be effective 12/3/2012.

Filed Date: 12/10/12.

Accession Number: 20121210-5078.

Comments Due: 5 p.m. ET 12/24/12.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: December 11, 2012.
Nathaniel J. Davis, Sr.,
Deputy Secretary.

[FR Doc. 2012-30278 Filed 12-14-12; 8:45 am]

BILLING CODE 6717-01-P